DEPARTMENT OF TRANSPORTATION

Federal Aviation Administration

14 CFR Part 39

[Docket No. FAA-2004-19496; Directorate Identifier 2003-NM-181-AD; Amendment 39-13920; AD 2004-26-08]

RIN 2120-AA64

Airworthiness Directives; Bombardier Model CL-215-6B11 (CL215T Variant) and CL-215-6B11 (CL415 Variant) Series Airplanes

AGENCY: Federal Aviation Administration (FAA), DOT.

ACTION: Final rule.

SUMMARY: The FAA is adopting a new airworthiness directive (AD) for certain Bombardier Model CL-215-6B11 (CL215T variant) and CL-215-6B11 (CL415 variant) series airplanes. This AD requires replacing the mounting pad studs of the auxiliary feather pump with new, longer studs, and installing a pressure relief valve. This AD is prompted by a few incidents of external oil leaks from the oil pump of the power control unit due to a malfunction of the pressure regulating valve. We are issuing this AD to prevent fracturing of the pump body, which could result in loss of engine oil, and consequent inability to maintain engine oil pressure and to feather the propeller.

DATES: This AD becomes effective February 9, 2005.

The incorporation by reference of certain publications listed in the AD is approved by the Director of the Federal Register as of February 9, 2005.

ADDRESSES: For service information identified in this AD, contact Bombardier, Inc., Canadair, Aerospace Group, P.O. Box 6087, Station Centre-ville, Montreal, Quebec H3C 3G9, Canada. You can examine this information at the National Archives and Records Administration (NARA). For information on the availability of this material at NARA, call (202) 741-6030, or go to: http://www.archives.gov/federal_register/code_of_federal_regulations/ibr_locations.html.

You can examine the contents of this AD docket on the Internet at http://dms.dot.gov, or in person at the Docket Management Facility, U.S. Department of Transportation, 400 Seventh Street SW., Room PL-401, on the plaza level of the Nassif Building, Washington, DC. This docket number is FAA-2004-19496; the directorate identifier for this docket is 2003-NM-181-AD.

FOR FURTHER INFORMATION CONTACT: Richard Fiesel, Aerospace Engineer, Airframe and Propulsion Branch, ANE-171, FAA, New York Aircraft Certification Office, 1600 Stewart Avenue, Suite 410, Westbury, New York 11590; telephone (516) 228-7304; fax (516) 794-5531.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR part 39 with an AD for certain Bombardier Model CL-215-6B11 (CL215T variant) and CL-215-6B11 (CL415 variant) series airplanes. That action, published in the Federal Register on November 3, 2004 (69 FR 63968), proposed to require replacing the mounting pad studs of the auxiliary feather pump with new, longer studs, and installing a pressure relief valve.

Comments

We provided the public the opportunity to participate in the development of this AD. No comments have been submitted on the proposed AD or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Parts | Cost per airplane | Number of U.S.- registered airplanes | Fleet cost
Replacement | 2 | $65 | Free | $130 | 3 | $390
Installation | 4 | 65 | Free | 260 | 3 | 780

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-26-08 Bombardier, Inc. (Formerly Canadair): Amendment 39-13920. Docket No. FAA-2004-19496; Directorate Identifier 2003-NM-181-AD.

Effective Date

(a) This AD becomes effective February 9, 2005.

Affected ADs

(b) None.

Applicability

(c) This AD applies to Bombardier Model CL-215-6B11 (CL215T variant) series airplanes, having serial numbers (S/N) 1056 through 1125 inclusive, and Model CL-215-6B11 (CL415 variant) series airplanes having S/Ns 2001 through 2053 inclusive; certificated in any category.

Unsafe Condition

(d) This AD was prompted by a few incidents of external oil leaks from the oil pump of the power control unit due to a malfunction of the pressure regulating valve. We are issuing this AD to prevent fracturing of the pump body, which could result in loss of engine oil, and consequent inability to maintain engine oil pressure and to feather the propeller.

Compliance

(e) You are responsible for having the actions required by this AD performed within the compliance times specified, unless the actions have already been done.

Replacement

(f) Within 12 months after the effective date of this AD, replace the mounting pad studs of the auxiliary feather pump with new, longer studs, and install a pressure relief valve; in accordance with the Accomplishment Instructions of Bombardier Service Bulletin 215-3108, dated March 28, 2001 (for Model CL-215-6B11 (CL215T variant) series airplanes); or Bombardier Service Bulletin 215-4234, dated March 28, 2001 (for Model CL-215-6B11 (CL415 variant) series airplanes); as applicable.

Note 1: Bombardier Service Bulletin 215-3108 and Bombardier Service Bulletin 215-4234 refer to Pratt & Whitney Canada Service Bulletin PW100-72-21636, Revision 2, dated June 26, 2002, as an additional source of service information for accomplishing the replacement of the mounting pad studs.

No Reporting

(g) Although the service bulletin refers to a reporting requirement in paragraph 2.B, that reporting is not required by this AD.

Alternative Methods of Compliance (AMOCs)

(h) The Manager, New York Aircraft Certification Office, FAA, has the authority to approve AMOCs for this AD, if requested using the procedures found in 14 CFR 39.19.

Related Information

(i) Canadian airworthiness directive CF-2002-14, dated February 13, 2002, also addresses the subject of this AD.

Material Incorporated by Reference

(j) You must use Bombardier Service Bulletin 215-3108, dated March 28, 2001; or Bombardier Service Bulletin 215-4234, dated March 28, 2001; as applicable; to perform the actions that are required by this AD, unless the AD specifies otherwise. The Director of the Federal Register approves the incorporation by reference of these documents in accordance with 5 U.S.C. 552(a) and 1 CFR part 51. For copies of the service information, contact Bombardier, Inc., Canadair, Aerospace Group, P.O. Box 6087, Station Centre-ville, Montreal, Quebec H3C 3G9, Canada. For information on the availability of this material at the National Archives and Records Administration (NARA), call (202) 741-6030, or go to http://www.archives.gov/federal_register/code_of_federal_regulations/ibr_locations.html.

You may view the AD docket at the Docket Management Facility, U.S. Department of Transportation, 400 Seventh Street SW., Room PL-401, Nassif Building, Washington, DC.

Issued in Renton, Washington, on December 20, 2004.
Kevin M. Mullin,
Acting Manager, Transport Airplane Directorate, Aircraft Certification Service.

[FR Doc. 05-101 Filed 1-4-05; 8:45 am]

BILLING CODE 4910-13-P